DEPARTMENT OF ENERGY

Federal Energy Regulatory Commission

Notice of Intent To File an Application for a Subsequent License

July 12, 2000.

a. Type of Filing: Notice of Intent to File An Application for a Subsequent License.

b. Project No.: 7264.

c. Dated Filed: June 19, 2000.

d. Submitted By: Fox River Paper Company, and N.E.W. Hydro, Inc.—current licensees.

e. Name of Project: Middle Appleton Dam Hydroelectric Project.

f. Location: On the Fox River in the city of Appleton, Outagamie County, Wisconsin. The project does not utilize federal lands.

g. Filed Pursuant to: Section 15 of the Federal Power Act.

h. Licensee Contact: Linda D. Mitchell, Mead & Hunt, Inc., 6501 Watts Road, Madison, WI 53719, (608) 273-6380.

i. FERC Contact: Tom Dean, thomas.dean@ferc.fed.us, (202) 219-2778.

j. Effective date of current license: July 1, 1955.

k. Expiration date of current license: June 30, 2005.

l. Description of the Project: The project consists of the following existing facilities: (1) A 10-foot-high, 372-foot-long concrete dam with 16 Taintor gates; (2) a 35.5-acre reservoir with a normal pool elevation of 721.37 feet msl; (3) a 100-foot-wide, 1,700-foot-long power canal (West's Canal); (4) Mill powerhouses 1, 2, and 3 containing two 240-kW generators, four 140-kW generators, and one 150-kW generator, respectively, with a total installed capacity of 1,190 kW; (5) a tailrace; (6) other appurtenances.

m. Each application for a subsequent license and any competing license applications must be filed with the Commission at least 24 hours prior to the expiration of the existing license. All applications for license for this project must be filed by June 30, 2003.

Linwood A. Watson, Jr.,
Acting Secretary.

[FR Doc. 00-18068 Filed 7-17-00; 8:45 am]

BILLING CODE 6717-01-M